DEPARTMENT OF HOMELAND SECURITY

Coast Guard

33 CFR Part 117

[Docket No. USCG-2016-0783]

Drawbridge Operation Regulation; Chester River, Chestertown, MD

AGENCY: Coast Guard, DHS.

ACTION: Notice of temporary deviation from drawbridge regulation; Modification.

SUMMARY: The Coast Guard has modified a temporary deviation from the operating schedule that governs the S213 (MD 213) Bridge across the Chester River, mile 26.8, at Chestertown, MD. This modified deviation is necessary to perform bridge maintenance. This modified deviation allows the bridge to remain in the closed-to-navigation position.

DATES: This modified deviation is effective from 6 a.m. on October 30, 2016 through 6 a.m. on November 20, 2016.

ADDRESSES: The docket for this deviation, [USCG-2016-0783] is available at http://www.regulations.gov. Type the docket number in the “SEARCH” box and click “SEARCH”. Click on Open Docket Folder on the line associated with this deviation.

FOR FURTHER INFORMATION CONTACT: If you have questions on this modified temporary deviation, call or email Mr. Michael R. Thorogood, Bridge Administration Branch Fifth District, Coast Guard, telephone 757-398-6557, email Michael.R.Thorogood@uscg.mil.

SUPPLEMENTARY INFORMATION: On August 25, 2016, the Coast Guard published a temporary deviation entitled “Drawbridge Operation Regulation; Chester River, Chestertown, MD” in the Federal Register (81 FR 58846). Under that temporary deviation, the bridge would remain in the closed-to-navigation position from 8 p.m. on September 6, 2016 to 6 a.m. on October 30, 2016. The bridge would open for vessels on signal during the scheduled closure periods, if at least 24 hours notice were given.

The Maryland State Highway Administration, who owns and operates the S213 (MD 213) Bridge, has requested a modified temporary deviation from the currently published deviation to extend the time needed to complete the bridge painting project.

Under this modified temporary deviation, the bridge will be maintained in the closed-to-navigation position from 6 a.m. on October 30, 2016 through 6 a.m. on November 20, 2016. The bridge is a double bascule draw bridge and has a vertical clearance in the closed position of 12 feet above mean high water.

The Chester River is used by recreational vessels. The Coast Guard has carefully considered the nature and volume of vessel traffic on the waterway in publishing this temporary deviation.

For the duration of the bridge maintenance, vessels will not be allowed to pass through the bridge due to placement of barges and equipment in the main navigation span. The bridge will open for vessels on signal during the scheduled closure period, if at least 24 hours notice is given. The bridge will not be able to open for emergencies and there is no immediate alternative route for vessels to pass. The Coast Guard will also inform the users of the waterways through our Local and Broadcast Notices to Mariners of the change in operating schedule for the bridge so that vessel operators can arrange their transit to minimize any impact caused by the temporary deviation.

In accordance with 33 CFR 117.35(e), the drawbridge must return to its regular operating schedule immediately at the end of the effective period of this temporary deviation. This deviation from the operating regulations is authorized under 33 CFR 117.35.

Dated: October 17, 2016.
Hal R. Pitts,
Bridge Program Manager, Fifth Coast Guard District.

[FR Doc. 2016-25434 Filed 10-19-16; 8:45 am]

BILLING CODE 9110-04-P